DEPARTMENT OF THE TREASURY

Submission for OMB Review; Comment Request

August 11, 2016.

The Department of the Treasury will submit the following information collection request to the Office of Management and Budget (OMB) for review and clearance in accordance with the Paperwork Reduction Act of 1995, Public Law 104-13, on or after the date of publication of this notice.

DATES: Comments should be received on or before September 15, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Departmental Offices

OMB Control Number: 1505-0016.

Type of Review: Revision of a currently approved collection.

Title: Treasury International Capital Form BQ-1, “Report of Customers' U.S. Dollar Claims on Foreign Residents”.

Form: Form BQ-1.

Abstract: Form BQ-1 is required by law and is designed to collect timely information on international portfolio capital movements, in particular U.S. dollar claims of customers of U.S. resident financial institutions on foreign residents. The information is necessary in the computation of the U.S. balance of payments accounts and the U.S. international investment position, and in the formulation of U.S. international financial and monetary policies.

Affected Public: Businesses or other for-profits.

Estimated Total Annual Burden Hours: 1,492.

OMB Control Number: 1505-0017.

Type of Review: Revision of a currently approved collection.

Title: Treasury International Capital Form BC, “Report of U.S. Dollar Claims of Financial Institutions on Foreign Residents”.

Form: Form BC.

Abstract: Form BC is required by law and is designated to collect timely information on international portfolio capital movements, in particular own U.S. dollar claims of U.S. resident financial institutions on foreign residents. The information is necessary in the computation of the U.S. balance of payments accounts and the U.S. international investment position, and in the formulation of U.S. international financial and monetary policies.

Affected Public: Businesses or other for-profits.

Estimated Total Annual Burden Hours: 51,660.

OMB Control Number: 1505-0018.

Type of Review: Revision of a currently approved collection.

Title: Treasury International Capital Form BL-2, “Report of Customers' U.S. Dollar Liabilities to Foreign Residents”.

Form: Form BL-2.

Abstract: Form BL-2 is required by law and is designed to collect timely information on international portfolio capital movements, in particular U.S. dollar liabilities of customers of U.S. resident financial institutions to foreign residents. The information is necessary in the computation of the U.S. balance of payments accounts and the U.S. international investment position, and in the formulation of U.S. international financial and monetary policies.

Affected Public: Businesses or other for-profits.

Estimated Total Annual Burden Hours: 11,081.

OMB Control Number: 1505-0019.

Type of Review: Revision of a currently approved collection.

Title: Treasury International Capital Form BL-1, “Report of U.S. Dollar Liabilities of Financial Institutions to Foreign Residents”.

Form: Form BL-1.

Abstract: Form BL-1 is required by law and is designed to collect timely information on international portfolio capital movements, in particular U.S. dollar liabilities of U.S. resident financial institutions to foreign residents. The information is necessary in the computation of the U.S. balance of payments accounts and the U.S. international investment position, and in the formulation of U.S. international financial and monetary policies.

Affected Public: Businesses or other for-profits.

Estimated Total Annual Burden Hours: 34,992.

OMB Control Number: 1505-0020.

Type of Review: Revision of a currently approved collection.

Title: Treasury International Capital Form BQ-2, “Part 1—Report of Foreign Currency Liabilities and Claims of Financial Institutions and of Their Domestic Customers' Foreign Currency Claims with Foreign Residents; and Part 2—Report of Customers' Foreign Currency Liabilities to Foreign Residents”.

Form: Form BQ-2.

Abstract: Form BQ-2 is required by law and is designed to collect timely information on international portfolio capital movements, in particular liabilities and claims of U.S. resident financial institutions, and of their domestic customers' liabilities and claims, with foreign residents, that are denominated in foreign currencies. This information is necessary in the computation of the U.S. balance of payments accounts and the U.S. international investment position, and in the formulation of U.S. international financial and monetary policies.

Affected Public: Businesses or other for-profits.

Estimated Total Annual Burden Hours: 6,210.

OMB Control Number: 1505-0024.

Type of Review: Revision of a currently approved collection.

Title: Treasury International Capital (TIC) Form CQ-1, “Report of Financial Liabilities to, and Financial Claims on, Unaffiliated Foreign Residents,” and Form CQ-2, “Report of Commercial Liabilities to, and Commercial Claims on, Unaffiliated Foreign-Residents”.

Form: Form CQ-1, Form CQ-2.

Abstract: Forms CQ-1 and CQ-2 are required by law to collect timely information on international portfolio capital movements, in particular data on financial and commercial liabilities to, and claims on, unaffiliated foreign residents held by non-financial enterprises in the U.S. This information is necessary in the computation of the U.S. balance of payments accounts and the U.S. international investment position, and in the formulation of U.S. international financial and monetary policies.

Affected Public: Businesses or other for-profits.

Estimated Total Annual Burden Hours: 3,832.

OMB Control Number: 1505-0189.

Type of Review: Revision of a currently approved collection.

Title: Treasury International Capital Form BQ-3, “Report of Maturities of Selected Liabilities and Claims of Financial Institutions with Foreign Residents”.

Form: Form BQ-3.

Abstract: Form BQ-3 is required by law and is designed to collect timely information on international portfolio capital movements, in particular maturities of selected U.S. dollar and foreign currency liabilities and claims of U.S. resident financial institutions with foreign residents. This information is necessary in the computation of the U.S. balance of payments accounts and the U.S. international investment position, and in the formulation of U.S. international financial and monetary policies.

Affected Public: Businesses or other for-profits.

Estimated Total Annual Burden Hours: 6,510.

Brenda Simms,
Treasury PRA Clearance Officer.

[FR Doc. 2016-19508 Filed 8-15-16; 8:45 am]

BILLING CODE 4810-25-P